DEPARTMENT OF THE TREASURY

Office of Foreign Assets Control

Notice of OFAC Sanctions Action

AGENCY: Office of Foreign Assets Control, Department of the Treasury.

ACTION: Notice.

SUMMARY: The Department of the Treasury's Office of Foreign Assets Control (OFAC) is publishing the names of four persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On August 29, 2019, OFAC determined that the property and interests in property subject to U.S. jurisdiction of the following four persons are blocked under the relevant sanctions authority listed below.

Entities

1. SARUR, Muhammad (a.k.a. SURUR, Muhammad Ibrahim), Baalbek-Hermel Province, Lebanon; DOB 05 Feb 1967; Gender Male (individual) [SDGT] (Linked To: HAMAS).

Designated pursuant to section 1(d)(i) of Executive Order 13224 of September 23, 2001, “Blocking Property and Prohibiting Transactions With Persons Who Commit, Threaten to Commit, or Support Terrorism” (E.O. 13224) for assisting in, sponsoring, or providing financial, material, or technological support for, or financial or other services to or in support of, HAMAS, an entity whose property and interests in property are blocked pursuant to E.O. 13224.

2. AWAD, Kamal Abdelrahman Aref (a.k.a. AWAD, Kamal), Gaza, Palestinian; DOB 07 Aug 1978; POB Nablus, West Bank; Gender Male; National ID No. 905037545 (Palestinian) (individual) [SDGT] (Linked To: HAMAS).

Designated pursuant to section 1(d)(i) of E.O. 13224 for assisting in, sponsoring, or providing financial, material, or technological support for, or financial or other services to or in support of, HAMAS, an entity whose property and interests in property are blocked pursuant to E.O. 13224.

3. NASSER, Fawaz Mahmud Ali (a.k.a. NASIR, Fawwaz), Gaza, Palestinian; DOB 13 Jan 1979; POB Ramallah, West Bank; Gender Male; National ID No. 946045622 (Palestinian) (individual) [SDGT] (Linked To: HAMAS).

Designated pursuant to section 1(d)(i) of E.O. 13224 for assisting in, sponsoring, or providing financial, material, or technological support for, or financial or other services to or in support of, HAMAS, an entity whose property and interests in property are blocked pursuant to E.O. 13224.

4. AL-AYY, Muhammad Kamal (a.k.a. ALAY, Muhammad Kamal Salamah), Gaza, Palestinian; DOB 22 Dec 1970; Gender Male; National ID No. 912396140 (Palestinian) (individual) [SDGT] (Linked To: HAMAS).

Designated pursuant to section 1(d)(i) of E.O. 13224 for assisting in, sponsoring, or providing financial, material, or technological support for, or financial or other services to or in support of, HAMAS, an entity whose property and interests in property are blocked pursuant to E.O. 13224.

Dated: August 29, 2019.
Andrea Gacki,
Director, Office of Foreign Assets Control.

[FR Doc. 2019-19114 Filed 9-4-19; 8:45 am]

BILLING CODE 4810-AL-P